DEPARTMENT OF LABOR

Employment and Training Administration

[TA-W-71,855; TA-W-71,855A]

Freescale Semiconductor, Inc., Technical Information Center, Tempe, AZ; Freescale Semiconductor, Inc., Technical Information Center, Woburn, MA; Amended Certification Regarding Eligibility To Apply for Worker Adjustment Assistance

In accordance with Section 223 of the Trade Act of 1974, as amended (“Act”), 19 U.S.C. 2273, the Department of Labor issued a Certification of Eligibility to Apply for Worker Adjustment Assistance on October 1, 2009, applicable to workers of Freescale Semiconductor, Inc., Technical Information Center, Tempe, Arizona. The notice was published in the Federal Register on November 17, 2009 (74 FR 59249).

At the request of the petitioners, the Department reviewed the certification for workers of the subject firm. The workers are engaged in activities related to technical customer support.

The Woburn, Massachusetts employees, who provided technical customer support, belonged to the same worker group as workers at the Tempe, Arizona site, and were effected by the same company-wide shift of services to a foreign country.

Accordingly, the Department is amending the certification to include workers of the Woburn, Massachusetts location of Freescale Semiconductor, Inc., Technical Information Center. The intent of the Department's certification is to include all workers of the subject firm who were adversely affected by a shift of services to a foreign country.

The amended notice applicable to TA-W-71,855 is hereby issued as follows:

“All workers of Freescale Semiconductor, Technical Information Center, Tempe, Arizona (TA-W-71,855) and Freescale Semiconductor, Technical Information Center, Woburn, Massachusetts (TA-W-71,855A), who became totally or partially separated from employment on or after July 23, 2008, through October 1, 2011, and all workers in the group threatened with total or partial separation from employment on the date of certification through two years from the date of certification, are eligible to apply for adjustment assistance under Chapter 2 of Title II of the Trade Act of 1974, as amended.”

Signed in Washington, DC, this 30th day of July 2010.
Michael W. Jaffe,
Certifying Officer, Division of Trade Adjustment Assistance.

[FR Doc. 2010-20028 Filed 8-12-10; 8:45 am]

BILLING CODE 4510-FN-P